DEPARTMENT OF COMMERCE

National Oceanic and Atmospheric Administration

RIN 0648-XX08

Marine Mammals; File No. 15471

AGENCY: National Marine Fisheries Service (NMFS), National Oceanic and Atmospheric Administration (NOAA), Commerce.

ACTION: Notice; issuance of permit.

SUMMARY: Notice is hereby given that Michael Adkesson, D.V.M., Chicago Zoological Society, 3300 Golf Rd., Brookfield, IL 60527, has been issued a permit to import specimens from South American fur seals for scientific research.

ADDRESSES: The permit and related documents are available for review upon written request or by appointment in the following office(s):

Permits, Conservation and Education Division, Office of Protected Resources, NMFS, 1315 East-West Highway, Room 13705, Silver Spring, MD 20910; phone (301)713-2289; fax (301)713-0376; and

Northeast Region, NMFS, 55 Great Republic Drive, Gloucester, MA 01930; phone (978)281-9328; fax (978) 281-9394;

FOR FURTHER INFORMATION CONTACT: Laura Morse or Jennifer Skidmore, (301)713-2289.

SUPPLEMENTARY INFORMATION: On June 29, 2010, notice was published in the Federal Register (75 FR 37389) that a request for a permit to import biological samples taken for scientific research from South American fur seals (Arctocephalus australis) had been submitted by the above-named applicant. These samples are part of an ongoing health assessment studies in Punta San Juan, Peru. There will be no non-target species taken incidentally under this permit because the permit would only cover import and possession of samples from animals taken legally under other permits. The requested permit has been issued under the authority of the Marine Mammal Protection Act of 1972, as amended (16 U.S.C. 1361 et seq.), and the regulations governing the taking and importing of marine mammals (50 CFR part 216).

In compliance with the National Environmental Policy Act of 1969 (42 U.S.C. 4321 et seq.), a final determination has been made that the activity proposed is categorically excluded from the requirement to prepare an environmental assessment or environmental impact statement.

Dated: August 23, 2010.
P. Michael Payne,
Chief, Permits, Conservation and Education Division, Office of Protected Resources, National Marine Fisheries Service.

[FR Doc. 2010-21407 Filed 8-26-10; 8:45 am]

BILLING CODE 3510-22-S